DEPARTMENT OF THE TREASURY

Office of the General Counsel

Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Christopher Sterner, Acting Deputy Chief Counsel (Operations);

2. Roland Barral, Area Counsel (Large and Mid-Size Business);

3. Sara M. Coe, Deputy Division Counsel (Small Business/Self Employed);

4. Alan Tawshunsky, Deputy Division Counsel/Deputy Associate Chief Counsel (Tax Exempt and Government Entities);

5. Deborah A. Butler, Associate Chief Counsel (Procedure and Administration).

This publication is required by 5 U.S.C. 4314(c)(4).

Dated: August 20, 2009.
William J. Wilkins,
Chief Counsel, Internal Revenue Service.

[FR Doc. E9-21259 Filed 9-2-09; 8:45 am]

BILLING CODE 4830-01-P